DEPARTMENT OF JUSTICE

Criminal Division; Agency Information Collection Activities: Proposed Collection; Comments Requested

ACTION: 60-day Notice of Information Collection Under Review: Exhibit B to Registration Statement (Foreign Agents).

The Department of Justice (DOJ), Criminal Division, has submitted the following information collection request to the Office of Management and Budget (OMB) for review and clearance in accordance with the Paperwork Reduction Act of 1995. This proposed information collection is published to obtain comments from the public and affected agencies. Comments are encouraged and will be accepted for “sixty days” until June 28, 2004. This process is conducted in accordance with 5 CFR 1320.10.

If you have comments, suggestions, or additional information, especially regarding the estimated public burden and associated response time, please write to U.S. Department of Justice, 10th & Constitution Avenue, NW., Criminal Division, Counterespionage Section/Registration Unit, Bond Building—Room 9300, Washington, DC 20530. If you need a copy of the collection instrument with instructions, or have additional information, please contact the Registration Unit at (202) 514-1216.

Written comments and suggestions from the public and affected agencies concerning the proposed collection of information are encouraged. Your comments should address one or more of the following four points:

—Evaluate whether the collection of information is necessary for the proper performance of the functions of the agency, including whether the information will have practical utility;

—Evaluate the accuracy of the agency's estimate of the burden of the collection of information, including the validity of the methodology and assumptions used;

—Enhance the quality, utility and clarity of the information to be collected; and

—Minimize the burden of the collection of information on those who are to respond, including through the use of appropriate automated, electronic, mechanical, or other technological collection techniques or other forms of information technology, e.g., permitting electronic submission of responses.

Overview of this information collection:

(1) Type of information collection: Extension of currently approved information collection.

(2) The title of the Form/Collection: Exhibit B to Registration Statement (Foreign Agents)

(3) The agency form number and the applicable component of the Department sponsoring the collection: Form CRM-155. Criminal Division, U.S. Department of Justice.

(4) Affected public who will be asked to respond, as well as a brief abstract: Primary: Business or other for-profit, Not-for-profit institutions, and individuals or households. The form is required by the provisions of the Foreign Agents Registration Act of 1938, 22 U.S.C. 611, et seq., and must set forth the agreement or understanding between the registrant and each of his foreign principals, as well as, the nature and method of performance of such agreement or understanding, and the existing or proposed activities engaged in or to be engaged in, including political activities, by the registrant for the foreign principal.

(5) An estimate of the total number of responses and the amount of time estimated for an average response: The total estimated number of responses is 164 at approximately 20 minutes per response.

(6) An estimate of the total public burden (in hours) associated with the collection: There are an estimated 54 annual burden hours associated with this collection.

If additional information is required contact: Brenda E. Dyer, Deputy Clearance Officer, United States Department of Justice, Justice Management Division, Policy and Planning Staff, Patrick Henry Building, 601 D Street, NW., Suite 1600, Washington, DC 20530.

Dated: April 23, 2004.
Brenda E. Dyer,
Deputy Clearance Officer, PRA United States Department of Justice.

[FR Doc. 04-9703 Filed 4-28-04; 8:45 am]

BILLING CODE 4410-14-P